SMALL BUSINESS ADMINISTRATION

Reporting and Recordkeeping Requirements Under OMB Review

AGENCY: Small Business Administration.

ACTION: Notice of 30 day Reporting Requirements Submitted for OMB Review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before January 9, 2014. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Curtis Rich, Small Business Administration, 409 3rd Street, SW., 5th Floor, Washington, DC 20416; and OMB Reviewer, Office of Information and Regulatory Affairs, Office of Management and Budget, New Executive Office Building, Washington, DC 20503.

FOR FURTHER INFORMATION CONTACT: Curtis Rich, Agency Clearance Officer, (202) 205-7030 curtis.rich@sba.gov.

Abstract: SBA Direct is an optional feature of SBA.gov that helps customized, relevant SBA.gov information directly to the user which will help site visitors, including small business owners, the ability to quickly and efficiently locate content on SBA.gov. SBA Community is also an optional feature of SBA.gov which allows users to contribute to SBA.gov by posting success stories, comments, or questions in a forum interface. The community will allow site visitors, including small businesses the ability to ask questions regarding starting and managing a business.

SUPPLEMENTARY INFORMATION:

Title: SBA Direct and SBA Online Community.

Frequency: On Occasion.

SBA Form Number: N/A.

Description of Respondents: Entrepreneurs, lenders, small business owners, and among others.

Responses: 413,000.

Annual Burden: 4,325.

Curtis Rich,
Management Analyst.

[FR Doc. 2013-29371 Filed 12-9-13; 8:45 am]

BILLING CODE P